FEDERAL EMERGENCY MANAGEMENT AGENCY

Agency Information Collection Activities: Proposed Collection; Comment Request

ACTION: Notice and request for comments.

SUMMARY: The Federal Emergency Management Agency, as part of its continuing effort to reduce paperwork and respondent burden, invites the general public and other Federal agencies to take this opportunity to comment on an extension of a currently approved information collection. In accordance with the Paperwork Reduction Act of 1995 (44 U.S.C. 3506 (c) (2) (A), this notice seeks comments on the Exemption of State-Owned Properties Under Self-Insurance Plan.

SUPPLEMENTARY INFORMATION: 44 CFR part 75 establishes standards with respect to the Federal Insurance Administrator's (FIA) determinations, that a State's plan of self-insurance is adequate and satisfactory for the purposes of the Act, from the requirement of purchasing flood insurance coverage for State-owned structures and their contents in areas identified by the Administrator as A, AO, AH, A1-A30, AE, A99, M, V, VO, V1-V30 and E zones, in which the sale of insurance has been made available. It also establishes the procedures by which a State may request exemption under section 102 C of the Act.

Collection of Information:

Title: Exemption of State-Owned Properties Under Self-Insurance Plan.

Type of Information Collection: Extension of a currently approved collection.

OMB Number: 3067-0127.

Abstract: The application for exemption is made to the Federal Insurance Administration by the Governor or other duly authorized official of the State accompanied by sufficient supporting documentation which certifies that the plan of self-insurance upon which the application for exemption is based meets or exceed the standards set forth in 44 CFR section 75.11. Upon determining that the State's plan of self-insurance equals or exceeds the standards, the Administrator then certifies that the State is exempt from the requirements for the purchase of flood insurance for State-owned structures and their contents.

Affected Public: State, Local, or Tribal Government.

Number of Respondents: 20.

Hours Per Response: 5.

Estimated Total Annual Burden Hours: 100 hours.

Estimated Cost: $3,000.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Section, Program Services and Systems Branch, Facilities Management and Services Division, Administration and Resource Planning Directorate, Federal Emergency Management Agency, 500 C Street, SW., Room 316, Washington, DC 20472.

FOR FURTHER INFORMATION CONTACT: You may contact Ms. Mary Ann Chang, Federal Insurance Administration, (202) 646-2790. For copies of the proposed collection information please contact Ms. Anderson at telephone number (202) 646-2625, facsimile number or e-mail muriel.anderson@fema.gov.

Dated: July 31, 2002.
Reginald Trujillo,
Branch Chief, Program Services and Systems Branch, Facilities Management and Services Division, Administration and Resource Planning Directorate.

[FR Doc. 02-20149 Filed 8-8-02; 8:45 am]

BILLING CODE 6718-01-P